DEPARTMENT OF ENERGY

Federal Energy Regulatory Commission

[Docket No. EL03-204-000]

AES Somerset, LLC, Complainant, v. Niagara Mohawk Power Corporation, Respondent; Notice of Complaint

June 26, 2003.

Take notice that on June 25, 2003, AES Somerset, LLC (Somerset) filed a complaint against Niagara Mohawk Power Corporation (Niagara Mohawk), requesting that the Federal Energy Regulatory Commission (Commission) issue an order prohibiting Niagara Mohawk from requiring Somerset's generating facility to pay retail tariff charges for self-supplied station power, including retail charges for transmission and distribution service and stranded cost recovery, and barring Niagara Mohawk from taking steps or actions to disconnect the generating facility from the New York State bulk power transmission system.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: July 15, 2003.

Magalie R. Salas,
Secretary.

[FR Doc. 03-16745 Filed 7-2-03; 8:45 am]

BILLING CODE 6717-01-P